DEPARTMENT OF THE TREASURY

Submission for OMB Review; Comment Request

February 10, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 20, 2000 to be assured of consideration.

Internal Revenue Service (IRS)

OMB Number: 1545-0973.

Form Number: IRS Form 8569.

Type of Review: Extension.

Title: Availability Statement.

Description: The data collected from this form is used by the executive panels responsible for screening internal and external applicants for the SES Candidate Development Program, and other executive positions.

Respondents: Individuals or households, Federal Government.

Estimated Number of Respondents: 500.

Estimated Burden Hours Per Respondent: 10 minutes.

Frequency of Response: Annually.

Estimated Total Reporting Burden: 84 hours.

OMB Number: 1545-1499.

Revenue Procedure Number: Revenue Procedure 96-52

Type of Review: Extension.

Title: Acceptance Agents,

Description: Revenue Procedure 96-52 describes application procedures for becoming an acceptance agent and the requisite agreement that an agent must execute with IRS.

Respondents: Business or other for-profit, individuals or households, not-for-profit institutions, Federal Government, State, Local or Tribal Government.

Estimated Number of Respondents: 12,825.

Estimated Burden Hours Per Respondent: 3 hours, 12 minutes

Frequency of Response: On occasion.

Estimated Total Reporting Burden: 41,006 hours.

Clearance Officer: Garrick Shear, Internal Revenue Service, Room 5244, 1111 Constitution Avenue, NW, Washington, DC 20224

OMB Reviewer: Alexander T. Hunt, (202) 395-7860, Office of Management and Budget, Room 10202, New Executive Office Building, Washington, DC 20503

Mary A. Able,
Departmental Reports Management Officer.

[FR Doc. 00-3753 Filed 2-16-00; 8:45 am]

BILLING CODE 4830-01-P